NUCLEAR REGULATORY COMMISSION

10 CFR Part 72

[NRC-2019-0030]

RIN 3150-AK28

List of Approved Spent Fuel Storage Casks: Holtec International HI-STORM 100 Cask System, Certificate of Compliance No. 1014, Amendment No. 13

AGENCY: Nuclear Regulatory Commission.

ACTION: Direct final rule; confirmation of effective date.

SUMMARY: The U.S. Nuclear Regulatory Commission (NRC) is confirming the effective date of May 13, 2019, for the direct final rule that was published in the Federal Register on February 26, 2019. The direct final rule amended the NRC's spent fuel storage regulations by revising the Holtec International HI-STORM 100 Cask System listing within the “List of approved spent fuel storage casks” to include Amendment No. 13 to Certificate of Compliance No. 1014. Amendment No. 13 revises Appendix B of the technical specifications to update the initial uranium weight for the 16x16B and 16x16C assembly classes to match the value for 16x16A.

DATES: Effective date: The effective date of May 13, 2019, for the direct final rule published February 26, 2019 (84 FR 6055), is confirmed.

ADDRESSES: Please refer to Docket ID NRC-2019-0030 when contacting the NRC about the availability of information for this action. You may obtain publicly-available information related to this action by any of the following methods:

• Federal Rulemaking Website: Go to http://www.regulations.gov and search for Docket ID NRC-2019-0030. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The proposed amendment to the certificate, the proposed changes to the technical specifications, and the preliminary safety evaluation report are available in ADAMS under Accession No. ML18351A180. The final amendment to the certificate, final changes to the technical specifications, and final safety evaluation report can also be viewed in ADAMS under Accession No. ML19099A294.

• NRC's PDR: You may examine and purchase copies of public documents at the NRC's PDR, Room O1-F21, One White Flint North, 11555 Rockville Pike, Rockville, Maryland 20852.

FOR FURTHER INFORMATION CONTACT: Christian Jacobs, Office of Nuclear Material Safety and Safeguards; telephone: 301-415-6825; email: Christian.Jacobs@nrc.gov or Gregory R. Trussell, Office of Nuclear Material Safety and Safeguards; telephone: 301-415-6244; email: Gregory.Trussell@nrc.gov. Both are staff of the U.S. Nuclear Regulatory Commission, Washington, DC 20555-0001.

SUPPLEMENTARY INFORMATION: On February 26, 2019 (84 FR 6055), the NRC published a direct final rule amending its regulations in part 72 of title 10 of the Code of Federal Regulations to the HI-STORM 100 System listing within § 72.214, “List of approved spent fuel storage casks,” to include Amendment No. 13 to Certificate of Compliance No. 1014. Amendment No. 13 revises Appendix B of the technical specifications to update the initial uranium weight for the 16x16B and 16x16C assembly classes to match the value for 16x16A.

In the direct final rule, the NRC stated that if no significant adverse comments were received, the direct final rule would become effective on May 13, 2019. As described more fully in the direct final rule, a significant adverse comment is a comment where the commenter explains why the rule would be inappropriate, including challenges to the rule's underlying premise or approach, or would be ineffective or unacceptable without a change.

The NRC received one comment and has determined that it is not a significant adverse comment. The comment requested that small entities suffering from dishonor and long term endangerment inflicted by the Atomic Energy Act of 1954 be awarded relief immediately at fair market value. As this rulemaking only addressed changes to the technical specifications for dry shielded canisters used to store nuclear waste on-site, the NRC determined this comment to be out of scope of this direct final rule.

Because no significant adverse comments were received, this direct final rule will become effective as scheduled.

Dated at Rockville, Maryland, this 10th day of April 2019.
For the Nuclear Regulatory Commission.
Cindy K. Bladey,
Chief, Regulatory Analysis and Rulemaking Support Branch, Division of Rulemaking, Office of Nuclear Material Safety and Safeguards.

[FR Doc. 2019-07835 Filed 4-17-19; 8:45 am]

BILLING CODE 7590-01-P